DEPARTMENT OF DEFENSE

Department of the Army; Corps of Engineers

Intent To Prepare a Joint Supplemental Environmental Impact Statement/Supplemental Environmental Impact Report for the Port of Los Angeles Channel Deepening Project for Navigation Improvement Additional Disposal Capacity; Los Angeles County, CA

AGENCY: Department of the Army; U.S. Corps of Engineers, DOD.

ACTION: Notice of intent.

SUMMARY: The U.S. Army Corps of Engineers (USACE) published in the Federal Register dated November 4, 2004 (69 FR 64280) a Notice of Intent (NOI) to initiate preparation of a Supplemental Environmental Impact Statement/Supplemental Environmental Impact Report (SEIS/SEIR) for additional disposal capacity needed to complete the Port of Los Angeles Channel Deepening Project for Navigation Improvement (Channel Deepening Project), Los Angeles Harbor, Los Angeles, California. Subsequent to the publishing of the NOI, several changes and additional considerations led to the publication of this Supplemental Notice of Intent (SNOI). The major changes and considerations include the designation of beneficial reuse of dredged material within the Port of Los Angeles as a project purpose, and consideration of reasonably foreseeable uses to disposal sites. This public notice also serves as the NOI to issue any Regulatory and other permits as may be required to implement the proposed project. The SEIS/SEIR will consider the potential impacts of the reasonably foreseeable use of proposed disposal sites for future port development. The assessment will entail the use of generalized assumptions in lieu of project-specific conditions that are not available at this time or within the scope of the Channel Deepening Project. It is emphasized that a Record of Decision (ROD) approving this SEIS/SEIR or approval of any landfill disposal option will not authorize any future development at landfill disposal sites. Future State and Federal environmental documents and permits may be required prior to any development of land created as a result of this project.

USACE began construction in October 2002 and is currently using disposal areas previously approved as part of the Channel Deepening Project. The Channel Deepening Project will improve the efficient use of Los Angeles Harbor by deepening the Inner Harbor Channels to accommodate the most modern vessels in the commercial container fleet. The current project also includes approved disposal areas that allow for the beneficial use of dredge material for environmental enhancement and potential port development. It has been determined that for reasons related to construction of the currently approved disposal facilities, project and contract modifications, and dredging and disposal operations, additional disposal capacity of approximately 4 million cubic yards (mcy) is needed to complete the Channel Deepening Project. Details regarding the genesis of the volume of material will be provided in the SEIS/SEIR. Disposal options identified to date that will be analyzed in the SEIS/SEIR include creation of new land that could be used for future port development, several environmental enhancement options, removal and capping of contaminated sediments at the Consolidated Slip, disposal at the existing Pier 400 Submerged Material Storage Site, and ocean disposal. Other options resulting from public and agency participation and resulting from further analyses will also be considered in the preparation and documentation of the SEIS/SEIR.

DATES: Submit comments on or before November 21, 2005.

ADDRESSES: U.S. Army Corps of Engineers, Los Angeles District, CESPL-PD-RN, Attn: Joy Jaiswal, P.O. Box 532711, Los Angeles, CA 90053-2325.

FOR FURTHER INFORMATION CONTACT: Ms. Joy Jaiswal, Chief, Ecosystem Planning Section, phone (213) 452-3851; or E-mail: Jyotsna.I.Jaiswal@usace.army.mil.

SUPPLEMENTARY INFORMATION: The initial NOI to solicit public comment and concerns on the proposed action and alternatives was issued in the Federal Register on November 4, 2004. A formal scoping meeting was held on November 30, 2004, at 6 p.m. at which the proposed action and alternatives were presented and information was exchanged with meeting attendees. Comments received on the November 2004 NOI and at the Public Scoping Meeting will be incorporated in the SEIS/SEIR. A scoping meeting will not be conducted for this Supplemental Notice of Intent. However, comments received within 30 days from the publication of this SNOI (October 21, 2005) in the Federal Register will be incorporated in the proposed SEIS/SEIR.

1. Authorization

The Port of Los Angeles Channel Deepening Project was authorized for construction by the Water Resources Development Act of 2000. Construction began in October 2002 and is currently continuing using previously approved disposal areas.

2. Background

The City of Los Angeles Harbor Department (LAHD) administers the Port of Los Angeles. The Port comprises 45 kilometers (28 mines) of waterfront and 3,035 hectares (7,500 acres) of land and water. LAHD administers automobile, container, omni, lumber, cruise ship, liquid and dry bulk terminals, and commercial fishing facilities. For recreational activities the Port of Los Angeles provides slips for 5,000 pleasure craft, sport fishing boats, and charter vessels. Community facilities include a water front youth center, a boat launch ramp, and a public swimming beach. Educational facilities include the Cabrillo Marine Aquarium and the Los Angeles Maritime Museum.

The SEIS/SEIR will access environmental impacts associated with providing additional disposal capacity of approximately 4 mcy required to complete the previously approved Channel Deepening Project, including project and contract modifications. Additional disposal capacity is required to complete the deepening of the navigation channel and berthing areas to −53 feet Mean Lower Low Water (MLLW) at container terminals along the deepened channel and the removal of dredge material that was temporarily used as surcharge at the Southwest Slip. This project meets a public need for safe and efficient commercial navigation.

a. Project Purpose and Need: The purposes of the proposed action are to:

• Provide additional dredged material disposal capacity of approximately 4 mcy to complete the Channel Deepening Project, as a result of material generated from project and contract modifications; and

• Maximize beneficial use of dredged material by constructing additional lands for eventual terminal use and to provide environmental enhancements at various locations in the Port of Los Angeles.

The need for the proposed project is because disposal sites developed for the Channel Deepening Project and project and contract modifications are inadequate to provide disposal capacity for all of the dredged material that requires removal. Preserving the use of dredged materials to construct additional terminal capacity in the future at various locations would be considered to be a beneficial use of dredged materials and another purpose for the project.

b. Project Site: The project size is located at the southern end of the City of Los Angeles and includes portions of the Los Angeles Inner and Outer Harbors, San Pedro Bay.

c. Proposed Action: Proposed disposal options and additional work being considered for completion of the previously approved Channel Deepening Project as modified include: (1) Adding up to 40 acres of land adjacent to the existing Pier 300 expansion site; (2) creating approximately 20 acres of eelgrass habitat in Seaplane Lagoon or Seaplane Anchorage; (3) expanding of the Cabrillo Shallow Water Habitat by approximately 35 acres; (4) creating of up to 15-acres of land within or adjacent to the existing Cabrillo Shallow Water Habitat for use as a migratory bird nesting area; (5) using dredge material to cap contaminated sediments within the Consolidated Slip (approximately 20 acres and may include removal of some contaminated sediments prior to capping); (6) disposing dredged material in the Pier 400 Submerged Material Storage Site (approximately 120 acres) thereby reducing the water depth from −15 feet MLLW up to −10 feet MLLW; (7) filling two existing slips (approximately 8 acres) at Berths 243-245 by creating a confined disposal facility for contaminated material; (8) filling up to 5 acres of the North West Slip located in the West Basin between Berths 129-136; and/or (9) ocean disposal at LA-2 or LA-3. Prior to implementing option 5 above, the USACE and Port would need to coordinate with and receive approval from the U.S. Environmental Protection Agency (EPA). If EPA approval is not granted or received in the time necessary, the remaining material will be disposed of at LA-2 or LA-3 or any other options identified above. Prior to dredging and disposal of any contaminated sediments, a Contaminated Sediment Management Plan will be prepared to address disposal site design and contaminated sediment management requirements. The Contaminated Sediment Management Plan would be coordinated with EPA and other appropriate agencies. Dredging in areas containing contaminated materials would not occur until consultation is completed.

The SEIS/SEIR will assess potential impacts from reasonably foreseeable uses of the proposed landfills for consideration in selecting the project for additional disposal capacity to complete the Channel Deepening Project. The assessment will entail the use of generalized assumptions in lieu of project-specific conditions that are not available at this time or within the scope of the Channel Deepening Project. It is emphasized that a ROD approving this SEIS/SEIR or approval of any landfill disposal option discussed in it will not authorize any future development at landfill disposal sites. Future State and Federal environmental documents and permits may be required prior to any development of land created as a result of this project.

3. Alternatives

a. Five alternatives including the “no action plan” are currently being considered. Each of the four design alternatives consists of a combination of separate disposal sites and a range of port development purposes for the dredged materials that still require disposal. The proposed plan, viable project alternatives, and the “no action” plan will be carried forward for detailed analysis pursuant to the National Environmental Policy Act (NEPA) of 1969 (42 U.S.C. 4321, as amended), the California Environmental Quality Act (CEQA) of 1970 (Public Resources Code, Sections 21000-21177), and applicable environmental laws and regulations. Incorporated within each of the four design alternatives below are the following: (1) Prior to placement of material in the Consolidated Slip, the USACE and Port would need to coordinate with and receive approval from the EPA. If EPA approval is not granted or received in the time necessary, the remaining material will be disposed of at LA-2 or LA-3 or any other options identified above; and (2) prior to placing material at Berths 243-245, the USACE and Port would need to consult with the EPA, and dredging in areas containing contaminated materials would not occur until consultation is completed.

b. Alternatives initially being considered for the proposed project include the following:

Alternative 1—Port Development

Disposal at Pier 300 Expansion (40 acres), Berth 243-245 (8 acres), Consolidated Slip Cap (20 acres), North West Slip (5 acres), Eelgrass Restoration (20 acres), Cabrillo Shallow Water Habitat Expansion (35 acres), Ocean Disposal at LA-2 or LA-3 (remaining material).

Alternative 2—Limited Port Development

Disposal at Pier 300 Expansion (28 acres), Berth 243-245 (8 acres), Consolidated Slip Cap (20 acres), North West Slip (5 acres), Eelgrass Restoration (20 acres), Cabrillo Shallow Water Habitat Expansion (35 acres), Cabrillo Shallow Water Habitat Island (15 acres), Ocean Disposal at LA-2 or LA-3 (remaining material).

Alternative 3—Minimal Port Development

Disposal at Berth 243-245 (8 acres), Consolidated Slip Cap (20 acres), Cabrillo Shallow Water Habitat Expansion (35 acres), Cabrillo Shallow Water Habitat Island (15 acres), Pier 400 Submerged Material Storage Site (120 acres raised from −15′ to −10′ MLLW), Ocean Disposal at LA-2 or LA-3 (remaining material).

Alternative 4—Ocean Disposal/Minimal Port Development

Disposal at Berth 243-245 (8 acres), Consolidated Slip Cap (20 acres), Cabrillo Shallow Water Habitat Expansion (35 acres) and/or Cabrillo Shallow Water Habitat Island (15 acres); Ocean Disposal at LA-2 or LA-3 (remaining material).

Alternative 5—No Action

Complete the current project to the extent possible utilizing the disposal capacity and sites previously authorized.

4. Scoping Process

a. Potential impacts associated with the proposed action will be fully evaluated. Resource categories that will be analyzed are: Biology, air quality, hydrology/water quality, cultural resources, land use, geology, recreational, aesthetics, ground and vessel transportation, noise, public health and safety, utilities, socioeconomics (environmental justice), and cumulative impacts.

The USACE and the Port of Los Angeles (POLA) are preparing a joint SEIS/SEIR to address potential impacts associated with the proposed project. The USACE is the Lead Federal Agency for compliance with NEPA for the project, and the POLA is the Lead State Agency for compliance with CEQA for the non-Federal aspects of the project.

b. Participation of affected Federal, State, and local resources agencies, and concerned interest groups/individuals are encouraged in the scoping process. Public participation will be especially important in the environmental analysis by providing assistance in defining the scope of analysis in the SEIS/SEIR; identifying significant environmental issues and impact analysis in the SEIS/SEIR; and providing useful information such as published and unpublished data, personal knowledge of relevant issues, and recommending mitigation measures associated with the proposed action. Those wishing to provide information or data relevant to the environmental or social impacts that should be included or considered in the environmental analysis can furnish this information by writing to the point of contact indicated above.

c. The Draft SEIS/SEIR (DSEIS/SEIR) document will incorporate public concerns in the analysis of impacts associated with the Proposed Action and associated project alternatives. The DSEIS/SEIR will be sent out for a 45-day public review period, during which time both written and verbal comments will be solicited on the adequacy of the document. The Final SEIS/SEIR (FSEIS/SEIR) will address the comments received on the DSEIS/SEIR. In compliance with NEPA, the FSEIS will be sent out for a 30-day public review period. Copies of the FSEIS/SEIR will be furnished to all who commented on the DSEIS/SEIR, and to anyone that requests a copy. The final step involves, for the federal SEIS, preparing a ROD and, for the state SEIR, certifying the SEIR and adopting a Mitigation Monitoring and Reporting Plan. The ROD is a concise summary of the decisions made by the USACE from among the alternatives presented in the FSEIS/SEIR. A certified SEIR indicates that the environmental document adequately assesses the environmental impacts of the proposed projects with respects to CEQA. Any required permit would be issued concurrently or soon after the issuance of the ROD.

Dated: October 7, 2005.
Alex C. Dornstauder,
Colonel, U.S. Army, District Engineer.

[FR Doc. 05-21066 Filed 10-20-05; 8:45 am]

BILLING CODE 3710-KF-M